DEPARTMENT OF LABOR

Employment and Training Administration

[TA-W-55,420]

Lanier Clothes, Greenville, Georgia; Notice of Termination of Investigation

Pursuant to Section 221 of the Trade Act of 1974, an investigation was initiated on August 11, 2004 in response to a worker petition which was filed by a company official on behalf of workers at Lanier Clothes, Greenville, Georgia.

The petitioner has requested that the petition be withdrawn. Consequently, the investigation has been terminated.

Signed in Washington, DC this 17th day of August, 2004.
Richard Church,
Certifying Officer, Division of Trade Adjustment Assistance.

[FR Doc. 04-19676 Filed 8-27-04; 8:45 am]

BILLING CODE 4510-30-P